DEPARTMENT OF ENERGY

Federal Energy Regulatory Commission

18 CFR Part 35

[Docket Nos. RM01-8-009 and RM01-8-010]

Revised Public Utility Filing Requirements for Electric Quarterly Reports

Issued October 28, 2008.

AGENCY: Federal Energy Regulatory Commission, DOE.

ACTION: Order No. 2001-I; Order Revising Electric Quarterly Report (EQR) Data Dictionary.

SUMMARY: In this order, the Federal Energy Regulatory Commission (Commission) revises the EQR Data Dictionary to define and rename Field 22 of the EQR to “Commencement Date of Contract Terms” and to clarify the information to be reported in the EQR concerning ancillary services. These revisions will make reporting this information less burdensome and more accessible.

DATES: Effective Date: This order will become effective upon publication in the Federal Register. The definitions adopted in this order shall be used in filing the Q1, 2009 EQR due on April 30, 2009 and in subsequent filings of the EQR.

FOR FURTHER INFORMATION CONTACT:

Mark Blazejowski (Technical Information), Office of Enforcement, Federal Energy Regulatory Commission, 888 First Street, NE., Washington, DC 20426, (202) 502-6055.

Gary D. Cohen (Legal Information), Office of the General Counsel, Federal Energy Regulatory Commission, 888 First Street, NE., Washington, DC 20426, (202) 502-8321.

SUPPLEMENTARY INFORMATION:

Before Commissioners: Joseph T. Kelliher, Chairman; Suedeen G. Kelly, Marc Spitzer, Philip D. Moeller, and Jon Wellinghoff.

1. In this order, after consideration of the comments filed in response to our notices seeking comment,¹ we are revising the Electric Quarterly Report (EQR) Data Dictionary. Specifically, we are revising the EQR Data Dictionary to define and rename Field 22 of the EQR to “Commencement Date of Contract Terms,” as this field is intended to be used to identify when the current terms of the reported contract became effective. This order also clarifies the information to be reported in the EQR concerning ancillary services.

¹ Revised Public Utility Filing Requirements for Electric Quarterly Reports, 73 FR 12983 (Mar. 11, 2008), FERC Stats. & Regs. ¶ 35,557 (2008) (EQR Ancillary Services Notice); Revised Public Utility Filing Requirements for Electric Quarterly Reports, 73 FR 30543 (May 28, 2008), FERC Stats. & Regs. ¶ 35,558 (2008) (Commencement Date Notice).

I. Background

A. EQRs and EQR Data Dictionary

2. On April 25, 2002, the Commission issued Order No. 2001, a final rule establishing revised public utility filing requirements. This rule requires public utilities to file EQRs summarizing specified pertinent data about their currently effective contracts (contract data) and data about wholesale power sales they made during the reporting period (transaction data).² The requirement to file EQRs replaced the requirement to file quarterly transaction reports summarizing a utility's market-based rate transactions and sales agreements that conformed to the utility's tariff.

² Revised Public Utility Filing Requirements, Order No. 2001, 67 FR 31043, FERC Stats. & Regs. ¶ 31,127 (2002), reh'g denied, Order No. 2001-A, 100 FERC ¶ 61,074 (2002), reh'g denied, Order No. 2001-B, 100 FERC ¶ 61,342 (2002).

3. In Order No. 2001, the Commission also adopted a new section in its regulations, 18 CFR 35.10b, which requires that the EQRs are to be prepared in conformance with the Commission's software and guidance posted and available from the Commission's Web site. This provision obviates the need to revise the Commission's regulations to implement revisions to the EQR software and guidance. Since the issuance of Order No. 2001, as need has arisen, the Commission has issued orders to resolve questions raised by EQR users and has directed Staff to issue additional guidance on how to report certain transactions.³

³ See, e.g., Notice Providing Guidance on the Filing of Information on Transmission Capacity Reassignments in Electric Quarterly Reports, 124 FERC ¶ 61,244 (2008), which provided guidance on complying with the Commission's Order No. 890-B reporting requirements; Revised Public Utility Filing Requirements, Order No. 2001-E, 105 FERC ¶ 61,352 (2003), where the Commission standardized the terminology for control areas; and Revised Public Utility Filing Requirements, 67 FR 65973 (Oct. 29, 2002), FERC Stats. & Regs. ¶ 35,045 (Oct. 21, 2002), which provided general guidance for using the EQR software.

4. On September 24, 2007, the Commission issued Order No. 2001-G, adopting an EQR Data Dictionary that collected in one document the definitions of certain terms and values used in filing EQR data and providing formal definitions for fields that were previously undefined.

B. Commencement Date

5. On December 20, 2007, the Commission issued Order No. 2001-H, which addressed a pending request for rehearing and clarified the information to be reported in several EQR data fields. In Order No. 2001-H, the Commission defined Field 22 in the Contract Data section of the EQR, named “Contract Commencement Date,” as:

The date the terms of the contract reported in the EQR were effective. If the terms reported in the Contract Data section of the EQR became effective or if service under those terms began on multiple dates (i.e., due to an amendment), the date to be reported as the Commencement Date is the date when service began pursuant to the most recent amendment to the terms reported in the Contract Data section of the EQR.⁴

⁴ Revised Public Utility Filing Requirements for Electric Quarterly Reports, Order No. 2001-H, 121 FERC ¶ 61,289 (2007), Data Dictionary at Field 22.

6. On February 26, 2008, the Commission held a technical conference to “review the EQR Data Dictionary and address questions from EQR users.” ⁵ During this technical conference, the participants discussed, among other matters, whether the Commission intended in Order No. 2001-H for the commencement date field to be used to report the date the contract terms reported in the EQR (original or amended) became effective. On April 17, 2008, in response to participants' requests, the Commission's Director, Office of Enforcement, issued a waiver, for the first quarter of 2008, of the requirement to file EQRs using the commencement date definition as clarified in Order No. 2001-H.⁶ On July 9, 2008, the waiver was extended until final action is taken in this docket.⁷

⁵ See Notice of Electric Quarterly Reports Technical Conference, 73 FR 2477 (Jan. 15, 2008).

⁶ See Edison Electric Institute, Docket Nos. RM01-8-000, RM01-8-007 and ER02-2001-000 (Apr. 17, 2008) (unpublished letter order).

⁷ See Edison Electric Institute, Docket Nos. RM01-8-000, RM01-8-007 and ER02-2001-000 (July 9, 2008) (unpublished letter order).

7. On May 28, 2008, the Commission issued the Commencement Date Notice to invite comment on the issues raised in the technical conference. In addition, the Commencement Date Notice proposed defining commencement date as:

The date the terms of the contract reported in the Contract Products section of the EQR (Field Nos. 26 through 45) were effective. If the terms reported in the Contract Data section of the EQR became effective on multiple dates (i.e., due to one or more amendments), the date to be reported as the Commencement Date is the date the most recent amendment became effective. If the contract or the most recent reported amendment does not have an effective date, the date when service began pursuant to the contract or most recent reported amendment may be used. If the terms of the contract reported in the Contract Products section have not been amended since January 1, 2008, the initial date the contract became effective may be used.

8. The Commission also proposed renaming the field to “Commencement Date of Contract Terms.” ⁸ On April 10, 2008, three entities filed timely comments on the Commencement Date Notice.⁹

⁸ As noted above, Field 22 has been previously titled “Contract Commencement Date.”

⁹ Timely comments on the Commencement Date Notice were filed by: Edison Electric Institute (EEI); Sempra Energy, Inc. (Sempra); and Occidental Power Services, Inc. (Occidental).

C. Ancillary Service Reporting

9. Order No. 888 adopted six ancillary services to be included in the open access transmission tariff (OATT): Scheduling, System Control and Dispatch (Schedule 1); Reactive Supply and Voltage Control (Schedule 2); Regulation and Frequency Response (Schedule 3); Energy Imbalance (Schedule 4); Operating Reserve—Spinning-or Spinning Reserve—(Schedule 5); and Operating Reserve—Supplemental—or Supplemental Reserve—(Schedule 6).¹⁰

¹⁰ Promoting Wholesale Competition Through Open Access Non-discriminatory Transmission Services by Public Utilities; Recovery of Stranded Costs by Public Utilities and Transmitting Utilities, Order No. 888, 61 FR 21540 (May 10, 1996), FERC Stats. & Regs. ¶ 31,036 (1996), order on reh'g, Order No. 888-A, 62 FR 12274 (Mar. 14, 1997), FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group v. FERC, 225 F.3d 667 (D.C. Cir. 2000) (TAPS v. FERC), aff'd sub nom. New York v. FERC, 535 U.S. 1 (2002).

10. The six ancillary services established in Order No. 888 are now offered under the Order No. 890 pro forma OATT. In Order No. 890, the Commission also adopted “generator imbalance” as a new ancillary service.¹¹

¹¹ Preventing Undue Discrimination and Preference in Transmission Service, Order No. 890, 72 FR 12266 (Mar. 15, 2007), FERC Stats. & Regs. ¶ 31,241, at P 668 (2007), order on reh'g, Order No. 890-A, 73 FR 2984 (Jan. 16, 2008), FERC Stats. and Regs. ¶ 31,261 (2007), order on reh'g, Order No. 890-B, 123 FERC ¶ 61,299 (2008).

11. On June 21, 2007, the Commission issued Order No. 697, a Final Rule that codified and, in certain respects, revised the Commission's standards for market-based rate authority for sales of electric energy, capacity, and ancillary services.¹² Among other matters, Order No. 697 addressed the posting and reporting requirements for third-party sellers of ancillary services at market-based rates.

¹² Market-Based Rates for Wholesale Sales of Electric Energy, Capacity and Ancillary Services by Public Utilities, Order No. 697, 72 FR 39904 (July 20, 2007), FERC Stats. & Regs. ¶ 31,252 (2007), clarifying order, 121 FERC ¶ 61,260 (2007), order on reh'g, Order No. 697-A, 73 FR 25,832 (May 7, 2008), FERC Stats. & Regs. ¶ 31,268 (2008).

12. The matter of third-party sellers of ancillary services at market-based rates had previously been addressed in Avista Corporation, 87 FERC ¶ 61,223, order on reh'g, 89 FERC ¶ 61,136 (1999) (Avista), among other cases. Avista provided a policy that third-party ancillary service providers that could not perform a market power study would be allowed to sell ancillary services at market-based rates, under certain conditions. The authorization in Avista extended only to the following four ancillary services: Regulation Service; Energy Imbalance Service; Spinning Reserves; and Supplemental Reserves.

13. On March 3, 2008, the Commission issued the EQR Ancillary Services Notice to clarify the requirement to report third-party ancillary service transactions. The notice proposed adding the phrase “Reported for power sales and transmission-related transactions” to clarify the EQR reporting requirements with regard to Energy Imbalance, Regulation & Frequency Response, Spinning Reserve, and Supplemental Reserve—the four products identified in Avista—“to clarify that sales of these services must be reported both in the Contract and Transaction sections of the EQR.” The notice also proposed to add Generator Imbalance as a Product Name in the EQR.¹³ On June 27, 2008, three entities filed comments in response to the EQR Ancillary Services Notice.¹⁴

¹³ EQR Ancillary Services Notice, FERC Stats. & Regs. ¶ 35,557 at P 12.

¹⁴ Timely comments on the EQR Ancillary Services Notice were filed by: EEI; California Independent System Operator Corporation (CAISO); and PJM Interconnection, L.L.C. (PJM).

II. Discussion

A. Commencement Date

1. Comments

14. CAISO states that it supports the intent of the proposed clarification of the definition of the “Contract Commencement Date” in the EQR Data Dictionary and the proposal to rename that EQR field as “Commencement Date of Contract Terms.” However, CAISO is concerned that the proposed commencement date definition (Field 22) is confusing because it refers to “the Contract Data section of the EQR” in the second sentence and “the Contract Products section” elsewhere.¹⁵ CAISO recommends that the Commission only require that entries to Field 22 be changed as a result of matters affecting the Contract Products section of the contract data and not based on any other revisions to a contract. CAISO argues that other information included in the EQR has no substantive effect on Field 22. CAISO also suggests that, rather than referring to the “Commencement Date,” the definition should refer specifically to “Commencement Date of Contract Terms.”

¹⁵ EQR filers summarize their contracts in the Contract Data section of the EQR: Fields 14 through 45. Fields 14 through 20 of the Contract Data section capture the seller/customer identification information and fields 21 through 25 capture relevant contract dates such as commencement and termination dates. The Contract Products section (Fields 26 through 45) is a subset of the Contract Data section describing the various offerings under the contract such as firm and non-firm, long-term, short-term.

15. EEI's comments generally support the proposed modification. EEI, however, requests that the Commission modify the definition to make clear that if the terms of the contract reported in the Contract Products section have not been amended since January 1, 2008, the filer may, at its election, use the initial date the contract became effective (or absent an effective date the initial date when service began) as the contract commencement date, even if the terms of the contract reported in the Contract Products section were amended prior to January 1, 2008.

16. PJM states that the proposed commencement date definition seems to raise the possibility that an EQR filer may begin reporting a contract upon its effective date. PJM raises the concern that this conflicts with the statement in Order No. 2001 that “the requirement to file contract data and transaction data begins with the first Electric Quarterly Report filed after service commences under an agreement.” ¹⁶ PJM asks that the Commission “permit public utilities to report agreements in their EQRs upon their effective dates * * * rather than when service is taken under the agreements.”

¹⁶ Order No. 2001, FERC Stats. & Regs. ¶ 31,127 at P 216.

2. Commission Determination

17. With regard to CAISO's comments regarding which revisions to contract terms necessitate changes to the date reported in the commencement date field, we note that, in Order No. 2001-H, the Commission stated:

There is a very real public interest in identifying when key terms of the contract were determined. As market conditions change over time, it is imperative to be able to sort the deals that occurred years ago from those that were confirmed more recently. To better understand the market conditions at the time a contract was put in place, it is necessary to document the date that key terms were established.¹⁷

¹⁷ Order No. 2001-H, 121 FERC ¶ 61,289 at P 12.

18. As discussed below, based on our consideration of the comments, the Commission concludes that additional specificity is needed to provide clarity. As an initial matter, we adopt the NOPR's proposal to change the name of Field 22 to “Commencement Date of Contract Terms.” We note that several commenters filed comments supporting such a change, and no comment was filed that raised objections to this proposal.

19. In addition, as discussed below, we are also revising the definition of Field 22 to clearly delineate the contractual changes that would require a change in the date reported.

20. With regard to EEI's comments, we agree with the suggestion regarding pre-2008 amendments. In particular, EEI suggests we add the phrase “or absent an effective date the initial date when service began.” We find this additional phrase further clarifies that the Commission does not intend to require filers to research contract histories to comply with its requirements for this field and, accordingly, we will adopt this proposal.

21. Second, we reject EEI's suggestion that we add the phrase “the Filer at its election may use” because we find that such a phrase would result in greater ambiguity, rather than clarity, by offering a range of options on what may be reported rather than requiring a standard by which all filers must comply. Further, the notion of inconsistent filings is contrary to the intention of the EQR Data Dictionary, which was created to reduce the range of possible interpretations for appropriate entries in the EQR. Such allowable disparities make the data less uniform and less useful.

22. Finally, we reject the EEI suggestion to add the phrase, “even if the terms of the contract reported in the Contract Products section were amended prior to January 1, 2008” because we find it redundant and subject to conflicting interpretations.

23. Accordingly, we rename Field 22 in the EQR as “Commencement Date of Contract Terms.” The field is defined as:

The date the terms of the contract reported in fields 18, 23 and 25 through 45 (as defined in the data dictionary) became effective. If those terms became effective on multiple dates (i.e., due to one or more amendments), the date to be reported in this field is the date the most recent amendment became effective. If the contract or the most recent reported amendment does not have an effective date, the date when service began pursuant to the contract or most recent reported amendment may be used. If the terms reported in fields 18, 23 and 25 through 45 have not been amended since January 1, 2009, the initial date the contract became effective (or absent an effective date the initial date when service began) may be used.

24. This definition will become effective on January 1, 2009 and will be applicable for EQRs filed beginning in the first quarter of 2009. The start date for the reporting of contract amendments has been changed in the definition to January 1, 2009, to account for the effective date of the revised EQR Data Dictionary that we are adopting in this order. The limited waiver for compliance that the Commission granted on April 17, 2008 and extended on July 9, 2008 will apply to all 2008 EQRs.¹⁸

¹⁸ The expiration date of the limited waiver also applies to the Increment Name fields (Fields 28 and 60), for which additional time was provided to comply with Order No. 2001-G.

25. PJM is incorrect in its interpretation that the proposed commencement date definition raises the possibility that an EQR filer may begin reporting a contract upon its effective date. The commencement date definition specifies which date should be used to populate the field and does not otherwise address when a contract must first be reported in the EQR. The Commission recognizes that, logistically, it may be more convenient to begin reporting a contract upon execution. Although the requirement to file a contract in the EQR once service under that contract commences will remain in effect, the Commission neither prohibits nor discourages the earlier reporting of contracts.

B. Ancillary Service Reporting

1. Comments

26. With regard to third-party ancillary service transactions, the EQR Ancillary Services Notice proposed to add to the phrase “Reported for power sales and transmission-related transactions” to clarify the EQR reporting requirements with regard to Energy Imbalance, Regulation & Frequency Response, Spinning Reserve, and Supplemental Reserve in Appendix A (Product Names) to the EQR Data Dictionary. The notice also proposed to add the product “Generator Imbalance” in the Appendix.

27. In response to this notice, EEI filed comments arguing that ancillary services associated with transmission contracts should not be reported in the EQR. Thus, EEI suggests that the reporting requirements regarding Energy Imbalance, Regulation & Frequency Response, Spinning Reserve, and Supplemental Reserve be changed to read as follows: “For Contracts, reported if the contract provides for sale of the product. For Transactions, sales by third-party providers (i.e., non-transmission function) are reported.” EEI argues that its proposed language is superior to that proposed by the Commission, because the language proposed in the EQR Ancillary Services Notice may cause confusion over whether transmission-related agreements are to be reported in the EQR. EEI states that “the Commission has never required transmission functions to report ancillary service sales in the Transactions portion of the EQR, which was established in Order No. 2001,” and “the suggested changes to the Appendix A definitions may not clearly enough reflect this existing policy.”

28. EEI also states that “the definition for Energy Imbalance and the proposed definition for Generator Imbalance do not indicate that they may be Ancillary Services” and asks “the Commission to clarify that Energy Imbalance and Generator Imbalance can be an [sic] Ancillary Services, and that * * * [o]nly ancillary services provided by a marketer are reportable transactions, though both marketers and transmission functions must list them in the Contracts section of the EQR.”

2. Commission Determination

29. Order No. 2001 stated:

We clarify that ancillary service transaction data associated with transmission need not be reported when the transmission services are provided on an unbundled basis * * * On the other hand, ancillary service transaction data associated with power sales are currently required to be filed in Quarterly Transaction Reports and the requirement to file these data is retained in this rule.¹⁹

¹⁹ Order No. 2001 at P 271.

30. Our proposal in the EQR Ancillary Services Notice was intended to provide clarification regarding the EQR reporting requirements for ancillary services provided in association with unbundled sales of transmission services rather than to change the policy (quoted immediately above) that we established in Order No. 2001.²⁰

²⁰ Order No. 697, FERC Stats. & Regs. ¶ 31,252 at P 1058.

31. Accordingly, with regard to EEI's suggested changes to the reporting requirements for Energy Imbalance, Regulation & Frequency Response, Spinning Reserve, and Supplemental Reserve, the Commission finds that EEI's proposal provides additional clarity and we therefore adopt EEI's proposal.

32. Specifically, we revise the ancillary service Product Names as follows:

Energy Imbalance: Service provided when a difference occurs between the scheduled and the actual delivery of energy to a load obligation (Ancillary Service). For Contracts, reported if the contract provides for sale of the product. For Transactions, sales by third-party providers (i.e., non-transmission function) are reported.

Generator Imbalance: Service provided when a difference occurs between the output of a generator located in the Transmission Provider's Control Area and a delivery schedule from that generator to (1) another Control Area or (2) a load within the Transmission Provider's Control Area over a single hour (Ancillary Service). For Contracts, reported if the contract provides for sale of the product. For Transactions, sales by third-party providers (i.e., non-transmission function) are reported.

Regulation & Frequency Response: Service providing for continuous balancing of resources (generation and interchange) with load, and for maintaining scheduled interconnection frequency by committing on-line generation where output is raised or lowered and by other non-generation resources capable of providing this service as necessary to follow the moment-by-moment changes in load (Ancillary Service). For Contracts, reported if the contract provides for sale of the product. For Transactions, sales by third-party providers (i.e., non-transmission function) are reported.

Spinning Reserve: Unloaded synchronized generating capacity that is immediately responsive to system frequency and that is capable of being loaded in a short time period or non-generation resources capable of providing this service (Ancillary Service). For Contracts, reported if the contract provides for sale of the product. For Transactions, sales by third-party providers (i.e., non-transmission function) are reported.

Supplemental Reserve: Service needed to serve load in the event of a system contingency, available with greater delay than SPINNING RESERVE. This service may be provided by generating units that are on-line but unloaded, by quick-start generation, or by interruptible load or other non-generation resources capable of providing this service (Ancillary Service). For Contracts, reported if the contract provides for sale of the product. For Transactions, sales by third-party providers (i.e., non-transmission function) are reported.

C. Reporting of Ancillary Service Product Type Names

1. Comments

33. EEI asks the Commission to “clarify the appropriate manner to report the Product Type Name [Field No. 30] for ancillary service sales in the Contracts portion of the EQR,” namely, that an ancillary service “reported by a transmission function” should be identified with a Product Type Name of “T,” indicating the product was sold under a FERC-approved transmission tariff. Alternatively, a merchant sale would be reported as sold under a FERC-approved cost-based tariff by entering “CB” or market-based tariff by entering “MB” as “factual circumstances dictate.”

34. Occidental seeks clarification “that imbalances that are settled in the real-time markets operated by the ISOs and RTOs are not intended to be reported as `Generator Imbalances' under the proposed revisions to the EQR Data Dictionary.” Occidental states that “imbalances that are settled within the organized markets [are] handled through the settlement process, in which the generator pays the real-time price for any under production and is paid the real-time price for any over production [and] should not be reported in the EQRs as `Generator Imbalances' under this [FERC-proposed] definition.”

2. Commission Determination

35. Regarding EEI's request for clarification, if the transmission provider (i.e., non-merchant function) makes an ancillary service sale, the product type is “T.” With respect to third-party sales, the product type is listed as “CB,” if the third-party sale is made under a cost-based rate tariff or “MB,” if the third-party sale is made under a market-based rate tariff. We believe that Product Type Name [Field No. 30] adequately addresses this distinction and, thus, do not find any reason to revise the ancillary service reporting requirements that we proposed in the EQR Ancillary Services Notice to add clarity on this issue.

36. In addition, we find that Occidental is correct in its interpretation of the difference between energy imbalance service offered as an ancillary service in general and the method by which organized markets address imbalances through settlement in the Real-Time market. The Commission has adopted conventions for reporting trading within Real-Time markets.²¹ This order does not change those conventions.

²¹ Revised Public Utility Filing Requirements for Electric Quarterly Reports, Order No. 2001-G, 120 FERC ¶ 61,270, at P 55 (2007).

D. Whether Ancillary Services Not Included in the OATT Should Be Reported in EQRs

1. Comments

37. The EQR Ancillary Services Notice invited comment on the need to include additional non-OATT ancillary services in the list of Product Names in the EQR Data Dictionary. Two commenters filed comments addressing this issue. EEI states that it “recommends against including any other ancillary services in the EQR at this time.”

38. Sempra comments that “the industry may benefit from additional clarification with respect to the reporting of ISO/RTO-specific ancillary services that may not be currently reflected” in the OATT. Sempra also suggests that there are benefits to clarifying “the reporting of other ISO/RTO-specific products.” To this end, Sempra asks that the Commission clarify “the appropriate reporting `bucket' for other CAISO products, such as Instructed Imbalance Energy and Uninstructed Imbalance Energy.” As to whether the Commission should add specific new ancillary services to the EQR Data Dictionary, Sempra asks that the Commission “consider whether any additional CAISO products or ancillary services should be included in the EQR Data Dictionary once the CAISO MRTU [Market Redesign and Technology Upgrade] program is put into effect.” ²²

²² We note that, while Sempra asks the Commission to consider these matters, it does not explicitly advocate that the Commission add any additional products to the EQR Data Dictionary.

2. Commission Determination

39. The Commission will continue its policy of identifying only the standard OATT ancillary services as ancillary services in the Product Name field of the EQR. This policy is consistent with the Commission's intention, in establishing the EQR filing requirements, that the same kinds of information be reported by all EQR filers, in the same format and using the same definitions. This approach is intended to allow EQR users and Commission staff to readily compare and contrast the transactions and contracts reported by one utility to those of other utilities. We will continue to add products that reflect common and new offerings by the industry where it appears that these products are widely offered, but, in this case, we agree with EEI that the current list of ancillary service product names to be reported in the EQR is sufficient.

40. As to Sempra's comments about providing clarification regarding the appropriate reporting of the specific products offered by CAISO, in Order No. 2001-E, the Commission encouraged RTOs and ISOs to work with Commission staff to develop EQR-ready reports to ease the filing process for respondents and to improve consistency in reporting within and among the organized markets.²³ Three ISOs—New York ISO, Midwest ISO and ISO New England—currently provide reports to their members that format settlement data for the EQR. PJM expects to begin doing so by the end of 2008.

²³ Order No. 2001-E, 105 FERC ¶ 61,352 at P 11.

41. In addition, we note that CAISO's staff met with Commission staff and market participants on May 18, 2004 to map the CAISO's products to the EQR product list.²⁴ Likewise, we encourage CAISO to meet with Commission staff on MRTU product mapping and provide EQR-ready reports to ease the filing process for respondents.

²⁴ Notice of Electric Quarterly Reports Western Outreach Session, 69 FR 25897 (May 10, 2004). The mapping developed in this meeting is available on the Commission's Web site (http://www.ferc.gov/EventCalendar/EventDetails.aspx?ID=1096&CalType=%20&Date=5/18/2004&CalendarID=116).

III. Document Availability

42. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

43. From the Commission's Home Page on the Internet, this information is available in the eLibrary. The full text of this document is available in the eLibrary both in PDF and Microsoft Word format for viewing, printing, and/or downloading. To access this document in eLibrary, type “RM01-8” in the docket number field. User assistance is available for eLibrary and the Commission's Web site during the Commission's normal business hours. For assistance contact the Commission's Online Support services at FERCOnlineSupport@ferc.gov or toll-free at (866) 208-3676, or for TTY, contact (202) 502-8659.

The Commission orders:

(A) The Commission hereby adopts the changes in the EQR Data Dictionary shown in the Attachment, as discussed in the body of this order.

(B) This order will become effective upon publication in the Federal Register. The definitions adopted in this order shall be used in filing the Q1, 2009 EQR due on April 30, 2009 and in subsequent filings of the EQR.

(C) The limited waiver for compliance granted on April 17, 2008 and extended on July 9, 2008 will apply to all 2008 EQRs and only to 2008 EQRs, regardless of when they are filed.

By the Commission.
Kimberly D. Bose,
Secretary.

Attachment

Electric Quarterly Report Data Dictionary Version 1.1 (Issued October 28, 2008)

EQR Data Dictionary
Field No. | Field | Required | Value | Definition
ID Data
1 | Filer Unique Identifier | X | FR1 | (Respondent)—An identifier (i.e., “FR1”) used to designate a record containing Respondent identification information in a comma-delimited (csv) file that is imported into the EQR filing. Only one record with the FR1 identifier may be imported into an EQR for a given quarter.
1 | Filer Unique Identifier | X | FS# (where “#” is an integer) | (Seller)—An identifier (e.g., “FS1”, “FS2”) used to designate a record containing Seller identification information in a comma-delimited (csv) file that is imported into the EQR filing. One record for each seller company may be imported into an EQR for a given quarter.
1 | Filer Unique Identifier | X | FA1 | (Agent)—An identifier (i.e., “FA1”) used to designate a record containing Agent identification information in a comma-delimited (csv) file that is imported into the EQR filing. Only one record with the FA1 identifier may be imported into an EQR for a given quarter.
2 | Company Name | X | Unrestricted text (100 characters) | (Respondent)—The name of the company taking responsibility for complying with the Commission's regulations related to the EQR.
2 | Company Name | X | Unrestricted text (100 characters) | (Seller)—The name of the company that is authorized to make sales as indicated in the company's FERC tariff(s). This name may be the same as the Company Name of the Respondent.
2 | Company Name | X | Unrestricted text (100 characters) | (Agent)—The name of the entity completing the EQR filing. The Agent's Company Name need not be the name of the company under Commission jurisdiction.
3 | Company DUNS Number | for Respondent and Seller | Nine digit number | The unique nine digit number assigned by Dun and Bradstreet to the company identified in Field Number 2.
4 | Contact Name | X | Unrestricted text (50 characters) | (Respondent)—Name of the person at the Respondent's company taking responsibility for compliance with the Commission's EQR regulations.
4 | Contact Name | X | Unrestricted text (50 characters) | (Seller)—The name of the contact for the company authorized to make sales as indicated in the company's FERC tariff(s). This name may be the same as the Contact Name of the Respondent.
4 | Contact Name | X | Unrestricted text (50 characters) | (Agent)—Name of the contact for the Agent, usually the person who prepares the filing.
5 | Contact Title | X | Unrestricted text (50 characters) | Title of contact identified in Field Number 4.
6 | Contact Address | X | Unrestricted text | Street address for contact identified in Field Number 4.
7 | Contact City | X | Unrestricted text (30 characters) | City for the contact identified in Field Number 4.
8 | Contact State | X | Unrestricted text (2 characters) | Two character state or province abbreviations for the contact identified in Field Number 4.
9 | Contact Zip | X | Unrestricted text (10 characters) CA—Canada, MX—Mexico | Zip code for the contact identified in Field Number 4.
10 | Contact Country Name | X | US—United States, UK—United Kingdom | Country (USA, Canada, Mexico, or United Kingdom) for contact address identified in Field Number 4.
11 | Contact Phone | X | Unrestricted text (20 characters) | Phone number of contact identified in Field Number 4.
12 | Contact E-Mail | X | Unrestricted text | E-mail address of contact identified in Field Number 4.
13 | Filing Quarter | X | YYYYMM | A six digit reference number used by the EQR software to indicate the quarter and year of the filing for the purpose of importing data from csv files. The first 4 numbers represent the year (e.g., 2007). The last 2 numbers represent the last month of the quarter (e.g., 03 = 1st quarter; 06 = 2nd quarter, 09 = 3rd quarter, 12 = 4th quarter).
Contract Data
14 | Contract Unique ID | X | An integer preceded by the letter “C” (only used when importing contract data) | An identifier beginning with the letter “C” and followed by a number (e.g., “C1”, “C2”) used to designate a record containing contract information in a comma-delimited (csv) file that is imported into the EQR filing. One record for each contract product may be imported into an EQR for a given quarter.
15 | Seller Company Name | X | Unrestricted text (100 characters) | The name of the company that is authorized to make sales as indicated in the company's FERC tariff(s). This name must match the name provided as a Seller's “Company Name” in Field Number 2 of the ID Data (Seller Data).
16 | Customer Company Name | X | Unrestricted text (70 characters) | The name of the counterparty.
17 | Customer DUNS Number | X | Nine digit number | The unique nine digit number assigned by Dun and Bradstreet to the company identified in Field Number 16.
18 | Contract Affiliate | X | Y (Yes), N (No) | The customer is an affiliate if it controls, is controlled by or is under common control with the seller. This includes a division that operates as a functional unit. A customer of a seller who is an Exempt Wholesale Generator may be defined as an affiliate under the Public Utility Holding Company Act and the FPA.
19 | FERC Tariff Reference | X | Unrestricted text (60 characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
20 | Contract Service Agreement ID | X | Unrestricted text (30 characters) | Unique identifier given to each service agreement that can be used by the filing company to produce the agreement, if requested. The identifier may be the number assigned by FERC for those service agreements that have been filed with and accepted by the Commission, or it may be generated as part of an internal identification system.
21 | Contract Execution Date | X | YYYYMMDD | The date the contract was signed. If the parties signed on different dates, use the most recent date signed.
22 | Commencement Date of Contract Terms | X | YYYYMMDD | The date the terms of the contract reported in fields 18, 23 and 25 through 45 (as defined in the data dictionary) became effective. If those terms became effective on multiple dates (i.e.: due to one or more amendments), the date to be reported in this field is the date the most recent amendment became effective. If the contract or the most recent reported amendment does not have an effective date, the date when service began pursuant to the contract or most recent reported amendment may be used. If the terms reported in fields 18, 23 and 25 through 45 have not been amended since January 1, 2009, the initial date the contract became effective (or absent an effective date the initial date when service began) may be used.
23 | Contract Termination Date | If specified in the contract | YYYYMMDD | The date that the contract expires.
24 | Actual Termination Date | If contract terminated | YYYYMMDD | The date the contract actually terminates.
25 | Extension Provision Description | X | Unrestricted text | Description of terms that provide for the continuation of the contract.
26 | Class Name | X |  | See definitions of each class name below.
26 | Class Name | X | F—Firm | For transmission sales, a service or product that always has priority over non-firm service. For power sales, a service or product that is not interruptible for economic reasons.
26 | Class Name | X | NF—Non-firm | For transmission sales, a service that is reserved and/or scheduled on an as-available basis and is subject to curtailment or interruption at a lesser priority compared to Firm service. For an energy sale, a service or product for which delivery or receipt of the energy may be interrupted for any reason or no reason, without liability on the part of either the buyer or seller.
26 | Class Name | X | UP—Unit Power Sale | Designates a dedicated sale of energy and capacity from one or more than one specified generation unit(s).
26 | Class Name | X | N/A—Not Applicable | To be used only when the other available Class Names do not apply.
27 | Term Name | X | LT—Long Term, ST—Short Term, N/A—Not Applicable | Contracts with durations of one year or greater are long-term. Contracts with shorter durations are short-term.
28 | Increment Name | X |  | See definitions for each increment below.
28 | Increment Name | X | H—Hourly | Terms of the contract (if specifically noted in the contract) set for up to 6 consecutive hours (≤ 6 consecutive hours).
28 | Increment Name | X | D—Daily | Terms of the contract (if specifically noted in the contract) set for more than 6 and up to 60 consecutive hours (> 6 and ≤ 60 consecutive hours).
28 | Increment Name | X | W—Weekly | Terms of the contract (if specifically noted in the contract) set for over 60 consecutive hours and up to 168 consecutive hours (> 60 and ≤ 168 consecutive hours).
28 | Increment Name | X | M—Monthly | Terms of the contract (if specifically noted in the contract) set for more than 168 consecutive hours up to, but not including, one year (>168 consecutive hours and < 1 year).
28 | Increment Name | X | Y—Yearly | Terms of the contract (if specifically noted in the contract) set for one year or more (≥ 1 year).
28 | Increment Name | X | N/A—Not Applicable | Terms of the contract do not specify an increment.
29 | Increment Peaking Name | X |  | See definitions for each increment peaking name below.
29 | Increment Peaking Name | X | FP—Full Period | The product described may be sold during those hours designated as on-peak and off-peak in the NERC region of the point of delivery.
29 | Increment Peaking Name | X | OP—Off-Peak | The product described may be sold only during those hours designated as off-peak in the NERC region of the point of delivery.
29 | Increment Peaking Name | X | P—Peak | The product described may be sold only during those hours designated as on-peak in the NERC region of the point of delivery.
29 | Increment Peaking Name | X | N/A—Not Applicable | To be used only when the increment peaking name is not specified in the contract.
30 | Product Type Name | X |  | See definitions for each product type below.
30 | Product Type Name | X | CB—Cost Based | Energy or capacity sold under a FERC-approved cost-based rate tariff.
30 | Product Type Name | X | CR—Capacity Reassignment | An agreement under which a transmission provider sells, assigns or transfers all or portion of its rights to an eligible customer.
30 | Product Type Name | X | MB—Market Based | Energy or capacity sold under the seller's FERC-approved market-based rate tariff.
30 | Product Type Name | X | T—Transmission | The product is sold under a FERC-approved transmission tariff.
30 | Product Type Name | X | Other | The product cannot be characterized by the other product type names.
31 | Product Name | X | See Product Name Table, Appendix A | Description of product being offered.
32 | Quantity | If specified in the contract | Number with up to 4 decimals | Quantity for the contract product identified.
33 | Units | If specified in the contract | See Units Table, Appendix E | Measure stated in the contract for the product sold.
34 | Rate | One of four rate fields (34, 35, 36, or 37) must be included | Number with up to 4 decimals | The charge for the product per unit as stated in the contract.
35 | Rate Minimum | One of four rate fields (34, 35, 36, or 37) must be included | Number with up to 4 decimals | Minimum rate to be charged per the contract, if a range is specified.
36 | Rate Maximum | One of four rate fields (34, 35, 36, or 37) must be included | Number with up to 4 decimals | Maximum rate to be charged per the contract, if a range is specified.
37 | Rate Description | One of four rate fields (34, 35, 36, or 37) must be included | Unrestricted text | Text description of rate. If the rate is currently available on the FERC Web site, a citation of the FERC Accession Number and the relevant FERC tariff including page number or section may be included instead of providing the entire rate algorithm. If the rate is not available on the FERC Web site, include the rate algorithm, if rate is calculated. If the algorithm would exceed the 150 character field limit, it may be provided in a descriptive summary (including bases and methods of calculations) with a detailed citation of the relevant FERC tariff including page number and section. If more than 150 characters are required, the contract product may be repeated in a subsequent line of data until the rate is adequately described.
38 | Rate Units | If specified in the contract | See Rate Units Table, Appendix F | Measure stated in the contract for the product sold.
39 | Point of Receipt Balancing Authority (PORBA) | If specified in the contract | See Balancing Authority Table, Appendix B | The registered NERC Balancing Authority (formerly called NERC Control Area) where service begins for a transmission or transmission-related jurisdictional sale. The Balancing Authority will be identified with the abbreviation used in OASIS applications. If receipt occurs at a trading hub specified in the EQR software, the term “Hub” should be used.
40 | Point of Receipt Specific Location (PORSL) | If specified in the contract | Unrestricted text (50 characters). If “HUB” is selected for PORCA, see Hub Table, Appendix C | The specific location at which the product is received if designated in the contract. If receipt occurs at a trading hub, a standardized hub name must be used. If more points of receipt are listed in the contract than can fit into the 50 character space, a description of the collection of points may be used. `Various,' alone, is unacceptable unless the contract itself uses that terminology.
41 | Point of Delivery Balancing Authority (PODBA) | If specified in the contract | See Balancing Authority Table, Appendix B | The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term “Hub” should be used.
42 | Point of Delivery Specific Location (PODSL) | If specified in the contract | Unrestricted text (50 characters). If “HUB” is selected for PODCA, see Hub Table, Appendix C | The specific location at which the product is delivered if designated in the contract. If receipt occurs at a trading hub, a standardized hub name must be used.
43 | Begin Date | If specified in the contract | YYYYMMDDHHMM | First date for the sale of the product at the rate specified.
44 | End Date | If specified in the contract | YYYYMMDDHHMM | Last date for the sale of the product at the rate specified.
45 | Time Zone | X | See Time Zone Table, Appendix D | The time zone in which the sales will be made under the contract.
Transaction Data
46 | Transaction Unique ID | X | An integer preceded by the letter “T” (only used when importing transaction data) | An identifier beginning with the letter “T” and followed by a number (e.g., “T1”, “T2”) used to designate a record containing transaction information in a comma-delimited (csv) file that is imported into the EQR filing. One record for each transaction record may be imported into an EQR for a given quarter. A new transaction record must be used every time a price changes in a sale.
47 | Seller Company Name | X | Unrestricted text (100 Characters) | The name of the company that is authorized to make sales as indicated in the company's FERC tariff(s). This name must match the name provided as a Seller's “Company Name” in Field 2 of the ID Data (Seller Data).
48 | Customer Company Name | X | Unrestricted text (70 Characters) | The name of the counterparty.
49 | Customer DUNS Number | X | Nine digit number | The unique nine digit number assigned by Dun and Bradstreet to the counterparty to the contract.
50 | FERC Tariff Reference | X | Unrestricted text (60 Characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
51 | Contract Service Agreement ID | X | Unrestricted text (30 Characters) | Unique identifier given to each service agreement that can be used by the filing company to produce the agreement, if requested. The identifier may be the number assigned by FERC for those service agreements that have been filed and approved by the Commission, or it may be generated as part of an internal identification system.
52 | Transaction Unique Identifier | X | Unrestricted text (24 Characters) | Unique reference number assigned by the seller for each transaction.
53 | Transaction Begin Date | X | YYYYMMDDHHMM (csv import), MMDDYYYYHHMM (manual entry) | First date and time the product is sold during the quarter.
54 | Transaction End Date | X | YYYYMMDDHHMM (csv import), MMDDYYYYHHMM (manual entry) | Last date and time the product is sold during the quarter.
55 | Time Zone | X | See Time Zone Table, Appendix D | The time zone in which the sales will be made under the contract.
56 | Point of Delivery Balancing Authority (PODBA) | X | See Balancing Authority Table, Appendix B | The registered NERC Balancing Authority (formerly called NERC Control Area) abbreviation used in OASIS applications.
57 | Point of Delivery Specific Location (PODSL) | X | Unrestricted text (50 characters). If “HUB” is selected for PODBA, see Hub Table, Appendix C | The specific location at which the product is delivered. If receipt occurs at a trading hub, a standardized hub name must be used.
58 | Class Name | X |  | See class name definitions below.
58 | Class Name | X | F—Firm | A sale, service or product that is not interruptible for economic reasons.
58 | Class Name | X | NF—Non-firm | A sale for which delivery or receipt of the energy may be interrupted for any reason or no reason, without liability on the part of either the buyer or seller.
58 | Class Name | X | UP—Unit Power Sale | Designates a dedicated sale of energy and capacity from one or more than one specified generation unit(s).
58 | Class Name | X | BA—Billing Adjustment | Designates an incremental material change to one or more transactions due to a change in settlement results. “BA” may be used in a refiling after the next quarter's filing is due to reflect the receipt of new information. It may not be used to correct an inaccurate filing.
58 | Class Name | X | N/A—Not Applicable | To be used only when the other available class names do not apply.
59 | Term Name | X | LT—Long Term, ST—Short Term, N/A—Not Applicable | Power sales transactions with durations of one year or greater are long-term. Transactions with shorter durations are short-term.
60 | Increment Name | X |  | See increment name definitions below.
60 | Increment Name | X | H—Hourly | Terms of the particular sale set for up to 6 consecutive hours (≤ 6 consecutive hours). Includes LMP based sales in ISO/RTO markets.
60 | Increment Name | X | D—Daily | Terms of the particular sale set for more than 6 and up to 60 consecutive hours (> 6 and ≤ 60 consecutive hours). Includes sales over a peak or off-peak block during a single day.
60 | Increment Name | X | W—Weekly | Terms of the particular sale set for over 60 consecutive hours and up to 168 consecutive hours (> 60 and ≤ 168 consecutive hours). Includes sales for a full week and sales for peak and off-peak blocks over a particular week.
60 | Increment Name | X | M—Monthly | Terms of the particular sale set for more than 168 consecutive hours up to, but not including, one year (> 168 consecutive hours and < 1 year). Includes sales for full month or multi-week sales during a given month.
60 | Increment Name | X | Y—Yearly | Terms of the particular sale set for one year or more (≥ 1 year). Includes all long-term contracts with defined pricing terms (fixed-price, formula, or index).
60 | Increment Name | X | N/A—Not Applicable | To be used only when other available increment names do not apply.
61 | Increment Peaking Name | X |  | See definitions for increment peaking below.
61 | Increment Peaking Name | X | FP—Full Period | The product described was sold during Peak and Off-Peak hours.
61 | Increment Peaking Name | X | OP—Off-Peak | The product described was sold only during those hours designated as off-peak in the NERC region of the point of delivery.
61 | Increment Peaking Name | X | P—Peak | The product described was sold only during those hours designated as on-peak in the NERC region of the point of delivery.
61 | Increment Peaking Name | X | N/A—Not Applicable | To be used only when the other available increment peaking names do not apply.
62 | Product Name | X | See Product Names Table, Appendix A | Description of product being offered.
63 | Transaction Quantity | X | Number with up to 4 decimals | The quantity of the product in this transaction.
64 | Price | X | Number with up to 6 decimals | Actual price charged for the product per unit. The price reported cannot be averaged or otherwise aggregated.
65 | Rate Units | X | See Rate Units Table, Appendix F | Measure appropriate to the price of the product sold.
66 | Total Transmission Charge | X | Number with up to 2 decimals | Payments received for transmission services when explicitly identified.
67 | Total Transaction Charge | X | Number with up to 2 decimals | Transaction Quantity (Field 63) times Price (Field 64) plus Total Transmission Charge (Field 66).

EQR Data Dictionary
[Appendix A. Product Names]
Product name | Contract product | Transaction product | Definition
BLACK START SERVICE | X | X | Service available after a system-wide blackout where a generator participates in system restoration activities without the availability of an outside electric supply (Ancillary Service).
BOOKED OUT POWER |  | X | Energy or capacity contractually committed bilaterally for delivery but not actually delivered due to some offsetting or countervailing trade (Transaction only).
CAPACITY | X | X | A quantity of demand that is charged on a $/KW or $/MW basis.
CUSTOMER CHARGE | X | X | Fixed contractual charges assessed on a per customer basis that could include billing service.
DIRECT ASSIGNMENT FACILITIES CHARGE | X |  | Charges for facilities or portions of facilities that are constructed or used for the sole use/benefit of a particular customer.
EMERGENCY ENERGY | X |  | Contractual provisions to supply energy or capacity to another entity during critical situations.
ENERGY | X | X | A quantity of electricity that is sold or transmitted over a period of time.
ENERGY IMBALANCE | X | X | Service provided when a difference occurs between the scheduled and the actual delivery of energy to a load obligation (Ancillary Service). For Contracts, reported if the contract provides for sale of the product. For Transactions, sales by third-party providers (i.e., non-transmission function) are reported.
EXCHANGE | X | X | Transaction whereby the receiver accepts delivery of energy for a supplier's account and returns energy at times, rates, and in amounts as mutually agreed if the receiver is not an RTO/ISO.
FUEL CHARGE | X | X | Charge based on the cost or amount of fuel used for generation.
GENERATOR IMBALANCE | X | X | Service provided when a difference occurs between the output of a generator located in the Transmission Provider's Control Area and a delivery schedule from that generator to (1) another Control Area or (2) a load within the Transmission Provider's Control Area over a single hour (Ancillary Service). For Contracts, reported if the contract provides for sale of the product. For Transactions, sales by third-party providers (i.e., non-transmission function) are reported.
GRANDFATHERED BUNDLED | X | X | Services provided for bundled transmission, ancillary services and energy under contracts effective prior to Order No. 888's OATTs.
INTERCONNECTION AGREEMENT | X |  | Contract that provides the terms and conditions for a generator, distribution system owner, transmission owner, transmission provider, or transmission system to physically connect to a transmission system or distribution system.
MEMBERSHIP AGREEMENT | X |  | Agreement to participate and be subject to rules of a system operator.
MUST RUN AGREEMENT | X |  | An agreement that requires a unit to run.
NEGOTIATED-RATE TRANSMISSION | X | X | Transmission performed under a negotiated rate contract (applies only to merchant transmission companies).
NETWORK | X |  | Transmission service under contract providing network service.
NETWORK OPERATING AGREEMENT | X |  | An executed agreement that contains the terms and conditions under which a network customer operates its facilities and the technical and operational matters associated with the implementation of network integration transmission service.
OTHER | X | X | Product name not otherwise included.
POINT-TO-POINT AGREEMENT | X |  | Transmission service under contract between specified Points of Receipt and Delivery.
REACTIVE SUPPLY & VOLTAGE CONTROL | X | X | Production or absorption of reactive power to maintain voltage levels on transmission systems (Ancillary Service).
REAL POWER TRANSMISSION LOSS | X | X | The loss of energy, resulting from transporting power over a transmission system.
REGULATION & FREQUENCY RESPONSE | X | X | Service providing for continuous balancing of resources (generation and interchange) with load, and for maintaining scheduled interconnection frequency by committing on-line generation where output is raised or lowered and by other non-generation resources capable of providing this service as necessary to follow the moment-by-moment changes in load (Ancillary Service). For Contracts, reported if the contract provides for sale of the product. For Transactions, sales by third-party providers (i.e., non-transmission function) are reported.
REQUIREMENTS SERVICE | X | X | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | X | X | Scheduling, confirming and implementing an interchange schedule with other Balancing Authorities, including intermediary Balancing Authorities providing transmission service, and ensuring operational security during the interchange transaction (Ancillary Service).
SPINNING RESERVE | X | X | Unloaded synchronized generating capacity that is immediately responsive to system frequency and that is capable of being loaded in a short time period or non-generation resources capable of providing this service (Ancillary Service). For Contracts, reported if the contract provides for sale of the product. For Transactions, sales by third-party providers (i.e., non-transmission function) are reported.
SUPPLEMENTAL RESERVE | X | X | Service needed to serve load in the event of a system contingency, available with greater delay than SPINNING RESERVE. This service may be provided by generating units that are on-line but unloaded, by quick-start generation, or by interruptible load or other non-generation resources capable of providing this service (Ancillary Service). For Contracts, reported if the contract provides for sale of the product. For Transactions, sales by third-party providers (i.e., non-transmission function) are reported.
SYSTEM OPERATING AGREEMENTS | X |  | An executed agreement that contains the terms and conditions under which a system or network customer shall operate its facilities and the technical and operational matters associated with the implementation of network.
TOLLING ENERGY | X | X | Energy sold from a plant whereby the buyer provides fuel to a generator (seller) and receives power in return for pre-established fees.
TRANSMISSION OWNERS AGREEMENT | X |  | The agreement that establishes the terms and conditions under which a transmission owner transfers operational control over designated transmission facilities.
UPLIFT | X | X | A make-whole payment by an RTO/ISO to a utility.

EQR Data Dictionary
[Appendix B. Balancing Authority]
Balancing authority | Abbreviation | Outside US *
AESC, LLC—Wheatland CIN | AEWC |
Alabama Electric Cooperative, Inc | AEC |
Alberta Electric System Operator | AESO | X
Alliant Energy Corporate Services, LLC—East | ALTE |
Alliant Energy Corporate Services, LLC—West | ALTW |
Ameren Transmission | AMRN |
Ameren Transmission, Illinois | AMIL |
Ameren Transmission, Missouri | AMMO |
American Transmission Systems, Inc | FE |
Aquila Networks—Kansas | WPEK |
Aquila Networks—Missouri Public Service | MPS |
Aquila Networks—West Plains Dispatch | WPEC |
Arizona Public Service Company | AZPS |
Associated Electric Cooperative, Inc | AECI |
Avista Corp | AVA |
Batesville Balancing Authority | BBA |
Big Rivers Electric Corp | BREC |
Board of Public Utilities | KACY |
Bonneville Power Administration Transmission | BPAT |
British Columbia Transmission Corporation | BCTC | X
California Independent System Operator | CISO |
Carolina Power & Light Company—CPLW | CPLW |
Carolina Power and Light Company—East | CPLE |
Central and Southwest | CSWS |
Central Illinois Light Co | CILC |
Chelan County PUD | CHPD |
Cinergy Corporation | CIN |
City of Homestead | HST |
City of Independence P&L Dept | INDN |
City of Tallahassee | TAL |
City Water Light & Power | CWLP |
Cleco Power LLC | CLEC |
Columbia Water & Light | CWLD |
Comision Federal de Electricidad | CFE | X
Constellation Energy Control and Dispatch—Arkansas | PUPP |
Constellation Energy Control and Dispatch—City of Benton, AR | BUBA |
Constellation Energy Control and Dispatch—City of Ruston, LA | DERS |
Constellation Energy Control and Dispatch—Conway, Arkansas | CNWY |
Constellation Energy Control and Dispatch—Gila River | GRMA |
Constellation Energy Control and Dispatch—Harquehala | HGMA |
Constellation Energy Control and Dispatch—North Little Rock, AK | DENL |
Constellation Energy Control and Dispatch—West Memphis, Arkansas | WMUC |
Dairyland Power Cooperative | DPC |
DECA, LLC—Arlington Valley | DEAA |
Duke Energy Corporation | DUK |
East Kentucky Power Cooperative, Inc | EKPC |
El Paso Electric | EPE |
Electric Energy, Inc | EEI |
Empire District Electric Co., The | EDE |
Entergy | EES |
ERCOT ISO | ERCO |
Florida Municipal Power Pool | FMPP |
Florida Power & Light | FPL |
Florida Power Corporation | FPC |
Gainesville Regional Utilities | GVL |
Georgia System Operations Corporation | GSOC |
Georgia Transmission Corporation | GTC |
Grand River Dam Authority | GRDA |
Grant County PUD No. 2 | GCPD |
Great River Energy | GRE |
Great River Energy | GREC |
Great River Energy | GREN |
Great River Energy | GRES |
GridAmerica | GA |
Hoosier Energy | HE |
Hydro-Quebec, TransEnergie | HQT | X
Idaho Power Company | IPCO |
Illinois Power Co | IP |
Illinois Power Co | IPRV |
Imperial Irrigation District | IID |
Indianapolis Power & Light Company | IPL |
ISO New England Inc | ISNE |
JEA | JEA |
Kansas City Power & Light Co | KCPL |
Lafayette Utilities System | LAFA |
LG&E Energy Transmission Services | LGEE |
Lincoln Electric System | LES |
Los Angeles Department of Water and Power | LDWP |
Louisiana Energy & Power Authority | LEPA |
Louisiana Generating, LLC | LAGN |
Madison Gas and Electric Company | MGE |
Manitoba Hydro Electric Board, Transmission Services | MHEB | X
Michigan Electric Coordinated System | MECS |
Michigan Electric Coordinated System—CONS | CONS |
Michigan Electric Coordinated System—DECO | DECO |
MidAmerican Energy Company | MEC |
Midwest ISO | MISO |
Minnesota Power, Inc | MP |
Montana-Dakota Utilities Co | MDU |
Muscatine Power and Water | MPW |
Nebraska Public Power District | NPPD |
Nevada Power Company | NEVP |
New Brunswick Power Corporation | NBPC | X
New Horizons Electric Cooperative | NHC1 |
New York Independent System Operator | NYIS |
North American Electric Reliability Council | TEST |
Northern Indiana Public Service Company | NIPS |
Northern States Power Company | NSP |
NorthWestern Energy | NWMT |
Ohio Valley Electric Corporation | OVEC |
Oklahoma Gas and Electric | OKGE |
Ontario—Independent Electricity Market Operator | IMO | X
OPPD CA/TP | OPPD |
Otter Tail Power Company | OTP |
P.U.D. No. 1 of Douglas County | DOPD |
PacifiCorp-East | PACE |
PacifiCorp-West | PACW |
PJM Interconnection | PJM |
Portland General Electric | PGE |
Public Service Company of Colorado | PSCO |
Public Service Company of New Mexico | PNM |
Puget Sound Energy Transmission | PSEI |
Reedy Creek Improvement District | RC |
Sacramento Municipal Utility District | SMUD |
Salt River Project | SRP |
Santee Cooper | SC |
SaskPower Grid Control Centre | SPC | X
Seattle City Light | SCL |
Seminole Electric Cooperative | SEC |
Sierra Pacific Power Co.—Transmission | SPPC |
South Carolina Electric & Gas Company | SCEG |
South Mississippi Electric Power Association | SME |
South Mississippi Electric Power Association | SMEE |
Southeastern Power Administration—Hartwell | SEHA |
Southeastern Power Administration—Russell | SERU |
Southeastern Power Administration—Thurmond | SETH |
Southern Company Services, Inc | SOCO |
Southern Illinois Power Cooperative | SIPC |
Southern Indiana Gas & Electric Co | SIGE |
Southern Minnesota Municipal Power Agency | SMP |
Southwest Power Pool | SWPP |
Southwestern Power Administration | SPA |
Southwestern Public Service Company | SPS |
Sunflower Electric Power Corporation | SECI |
Tacoma Power | TPWR |
Tampa Electric Company | TEC |
Tennessee Valley Authority ESO | TVA |
Trading Hub | HUB |
TRANSLink Management Company | TLKN |
Tucson Electric Power Company | TEPC |
Turlock Irrigation District | TIDC |
Upper Peninsula Power Co | UPPC |
Utilities Commission, City of New Smyrna Beach | NSB |
Westar Energy—MoPEP Cities | MOWR |
Western Area Power Administration—Colorado-Missouri | WACM |
Western Area Power Administration—Lower Colorado | WALC |
Western Area Power Administration—Upper Great Plains East | WAUE |
Western Area Power Administration—Upper Great Plains West | WAUW |
Western Farmers Electric Cooperative | WFEC |
Western Resources dba Westar Energy | WR |
Wisconsin Energy Corporation | WEC |
Wisconsin Public Service Corporation | WPS |
Yadkin, Inc | YAD |
* Balancing authorities outside the United States may only be used in the Contract Data section to identify specified receipt/delivery points in jurisdictional transmission contracts.

EQR Data Dictionary
[Appendix C. Hub]
HUB | Definition
ADHUB | The aggregated Locational Marginal Price (“LMP”) nodes defined by PJM Interconnection, LLC as the AEP/Dayton Hub.
AEPGenHub | The aggregated Locational Marginal Price (“LMP”) nodes defined by PJM Interconnection, LLC as the AEPGenHub.
COB | The set of delivery points along the California-Oregon commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) defined by the Midwest Independent Transmission System Operator, Inc., as Cinergy Hub (MISO).
Entergy (into) | The set of delivery points commonly identified as and agreed to by the counterparties to constitute delivery into the Entergy balancing authority.
FE Hub | The aggregated Elemental Pricing nodes (“Epnodes”) defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) defined by the Midwest Independent Transmission System Operator, Inc., as Minnesota Hub (MISO).
NEPOOL (Mass Hub) | The aggregated Locational Marginal Price (“LMP”) nodes defined by ISO New England Inc., as Mass Hub.
NIHUB | The aggregated Locational Marginal Price (“LMP”) nodes defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) nodes defined by PJM Interconnection, LLC as the PJM South Hub.
PJM West Hub | The aggregated Locational Marginal Price (“LMP”) nodes defined by PJM Interconnection, LLC as the PJM Western Hub.
Palo Verde | The switch yard at the Palo Verde nuclear power station west of Phoenix in Arizona. Palo Verde Hub includes the Hassayampa switchyard 2 miles south of Palo Verde.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

EQR Data Dictionary
Appendix D. Time Zone
Time zone | Definition
AD | Atlantic Daylight.
AP | Atlantic Prevailing.
AS | Atlantic Standard.
CD | Central Daylight.
CP | Central Prevailing.
CS | Central Standard.
ED | Eastern Daylight.
EP | Eastern Prevailing.
ES | Eastern Standard.
MD | Mountain Daylight.
MP | Mountain Prevailing.
MS | Mountain Standard.
NA | Not Applicable.
PD | Pacific Daylight.
PP | Pacific Prevailing.
PS | Pacific Standard.
UT | Universal Time.

EQR Data Dictionary
Appendix E. Units
Units | Definition
KV | Kilovolt.
KVA | Kilovolt Amperes.
KVR | Kilovar.
KW | Kilowatt.
KWH | Kilowatt Hour.
KW-DAY | Kilowatt Day.
KW-MO | Kilowatt Month.
KW-WK | Kilowatt Week.
KW-YR | Kilowatt Year.
MVAR-YR | Megavar Year.
MW | Megawatt.
MWH | Megawatt Hour.
MW-DAY | Megawatt Day.
MW-MO | Megawatt Month.
MW-WK | Megawatt Week.
MW-YR | Megawatt Year.
RKVA | Reactive Kilovolt Amperes.
FLAT RATE | Flat Rate.

EQR Data Dictionary
Appendix F. Rate Units
Rate units | Definition
$/KV | dollars per kilovolt.
$/KVA | dollars per kilovolt amperes.
$/KVR | dollars per kilovar.
$/KW | dollars per kilowatt.
$/KWH | dollars per kilowatt hour.
$/KW-DAY | dollars per kilowatt day.
$/KW-MO | dollars per kilowatt month.
$/KW-WK | dollars per kilowatt week.
$/KW-YR | dollars per kilowatt year.
$/MW | dollars per megawatt.
$/MWH | dollars per megawatt hour.
$/MW-DAY | dollars per megawatt day.
$/MW-MO | dollars per megawatt month.
$/MW-WK | dollars per megawatt week.
$/MW-YR | dollars per megawatt year.
$/MVAR-YR | dollars per megavar year.
$/RKVA | dollars per reactive kilovar amperes.
CENTS | cents.
CENTS/KVR | cents per kilovolt amperes.
CENTS/KWH | cents per kilowatt hour.
FLAT RATE | rate not specified in any other units.

[FR Doc. E8-26209 Filed 11-3-08; 8:45 am]

BILLING CODE 6717-01-P